DEPARTMENT OF COMMERCE

Foreign-Trade Zones Board

[Docket 56-2003]

Foreign-Trade Zone 158—Jackson, MS, Application for Expansion of Manufacturing Authority, Subzone 158D—Nissan North America, Inc., Plant (Motor Vehicles); Canton, MS

An application has been submitted to the Foreign-Trade Zones Board (the Board) by the Vicksburg-Jackson Foreign-Trade Zone, Inc., grantee of FTZ 158, on behalf of Nissan North America, Inc. (NNA), operator of Subzone 158D at the NNA motor vehicle manufacturing plant in Canton, Mississippi, requesting an expansion of the scope of manufacturing authority to include new manufacturing capacity under FTZ procedures. The application was submitted pursuant to the provisions of the Foreign-Trade Zones Act, as amended (19 U.S.C. 81a-81u), and section 400.32(b)(1) of the Board's regulations (15 CFR Part 400). It was formally filed on October 29, 2003.

Subzone 158D was approved in 2002 for the manufacture of up to 250,000 light-duty passenger vehicles annually at the NNA plant (up to 4,000 employees/1,350 acres/2.6 million sq.ft.) in Canton (Madison County), Mississippi (Board Order 1212, 67 FR 11091, 3-12-2002).

The applicant currently requests that the scope of FTZ manufacturing authority be extended to include an additional 1.1 million square feet of production area to accommodate additional passenger sedan production capacity (to a total of 400,000 vehicles annually), which will be added within the existing boundaries of Subzone 158D.

Parts and materials that are sourced from abroad (approximately 44% of material value, as published in the original Federal Register notice at 66 FR 35223, 7-3-2001) include: Gasoline and diesel engines and parts of such engines, labels, body parts and trim, fasteners, catalytic converters, parts of steering systems, brake fittings, half shafts, transmissions and parts of transmissions, differentials, bearings and bearing housings, flywheels/pulleys, wiring harnesses, handles/knobs, gaskets, fasteners, windshields and windows, springs, relays, and switches (duty rate range: free—8.6%). The foregoing list represents NNA's preexisting scope of sourcing authority.

Expanded zone procedures would continue to exempt NNA from Customs duty payments on the foreign components used in production for export. On its domestic sales and exports to NAFTA countries, the company can choose the lower duty rate that applies to finished passenger vehicles (2.5%) for the foreign inputs with higher duty rates noted above. Duties on foreign-origin production equipment would also be deferred until they become operational. The application indicates that the savings from FTZ procedures helps to improve the NNA plant's international competitiveness.

In accordance with the Board's regulations, a member of the FTZ Staff has been designated examiner to investigate the application and report to the Board.

Public comment on the application is invited from interested parties. Submissions (original and three copies) shall be addressed to the Board's Executive Secretary at the following addresses:

1. Submissions via Express/Package Delivery Services: Foreign-Trade Zones Board, U.S. Department of Commerce, Franklin Court Building-Suite 4100W, 1099 14th Street, NW., Washington, DC 20005; or,

2. Submissions via the U.S. Postal Service: Foreign-Trade Zones Board, U.S. Department of Commerce, FCB-4100W, 1401 Constitution Ave., NW., Washington, DC 20230.

The closing period for their receipt is January 5, 2004. Rebuttal comments in response to material submitted during the foregoing period may be submitted during the subsequent 15-day period (to January 20, 2004).

A copy of the application will be available for public inspection at the Office of the Foreign-Trade Zones Board's Executive Secretary at address No. 1 listed above.

Dated: October 29, 2003.
Dennis Puccinelli,
Executive Secretary.

[FR Doc. 03-27966 Filed 11-5-03; 8:45 am]

BILLING CODE 3510-DS-P